DEPARTMENT OF TRANSPORTATION

Federal Transit Administration

Preparation of an Environmental Impact Statement on Hatcher Pass Recreational Area Trails and Transit Facilities in the Matanuska-Susitna Borough, AK

AGENCY: Federal Transit Administration (FTA), Department of Transportation.

ACTION: Notice of Intent To Prepare an Environmental Impact Statement.

SUMMARY: The FTA and Matanuska-Susitna Borough are issuing this notice to advise the public that an Environmental Impact Statement (EIS) will be prepared for the proposed Hatcher Pass Recreational Area Trails and Transit Facilities project in the Matanuska-Susitna Borough, Alaska. The project would construct access roads, parking areas, and pedestrian facilities for two day-use areas that would provide an opportunity for skiing and other recreational opportunities for local and regional residents. The EIS will be prepared in accordance with regulations implementing the National Environmental Policy Act (NEPA), as well as provisions of the recently enacted Safe, Accountable, Flexible, Efficient Transportation Equity Act: A Legacy for Users (SAFETEA-LU). The purpose of the Notice of Intent (NOI) is to alert interested parties regarding the plan to prepare the EIS, to provide information on the nature of the proposed project, to invite participation in the EIS process, including comments on the scope of the EIS proposed in this notice, and to announce that public scoping meetings will be conducted.

DATES: Written comments on the scope of the EIS should be sent to Ms. Kristi Stuller, DOWL HKM Public Involvement Coordinator, by December 24, 2008, at 2:30 p.m. at the location indicated under ADDRESSES below. An interagency scoping meeting has been scheduled for December 8, 2008, and the public scoping meeting will be held on December 11, 2008, from 5:30-8:30 p.m. at the location indicated under ADDRESSES below.

ADDRESSES: Written comments on the scope of the EIS should be sent to Ms. Kristi Stuller, DOWL HKM Public Involvement Coordinator, 4041 B Street, Anchorage, Alaska 99503. Comments may also be offered at the public and agency scoping meetings. The address for the public scoping meeting is as follows: Colony Middle School, 9250 Colony Schools Drive, Palmer, AK 99645.

The address for the agency scoping meeting is as follows: Matanuska-Susitna Borough Lower Level Conference Room, 350 East Dahlia Avenue, Palmer, AK 99645.

These locations are accessible to persons with disabilities. If translation signing services or other special accommodations are needed, please contact Public Involvement Coordinator Kristi Stuller at (907) 562-2000 at least 48 hours before the meeting. A scoping information packet is available on the project Web site at: http://www.hatcherpass.com, or by calling Public Involvement Coordinator Kristi Stuller at (907) 562-2000. Copies will also be available at the scoping meeting.

FOR FURTHER INFORMATION CONTACT: Ms. Linda Gehrke, Deputy Regional Administrator, Federal Transit Administration, Region 10 Office, at (206) 220-4463.

SUPPLEMENTARY INFORMATION: The Proposed Project: The FTA and Matanuska-Susitna Borough (MSB) are proposing a project to construct access roads, parking lots, and trail connections for two day-use areas that would provide transportation access and transit facilities to serve recreational opportunities for local and regional residents in the Hatcher Pass area. The MSB intends to create a moderate sized development that would include Nordic and alpine skiing, snowboarding, biathlon, mountain biking, hiking, sledding, and equestrian access in Hatcher Pass, Alaska. The study area is located at approximately 61.734 north latitude and 149.299 west longitude (Sections 2-5, 8-11, 14-22, and 26-30 of T19N, R1E, Seward Meridian) (USGS Quadrangle Anchorage C6, C7, and D7 1:63,360 Scale).

Preliminary Purposes and Need for the Proposed Project

Purpose. The preliminary statement of purpose of this project is to provide transportation access and transit facilities to assist in the transportation needs of proposed new Nordic and alpine ski and recreational areas in Hatcher Pass, Alaska. Hatcher Pass is located approximately 55 miles north of Anchorage, Alaska, in the heart of the MSB, Alaska's fastest growing community.

Need. The preliminary statement of need for the project is the lack of existing transportation access, pedestrian amenities and trails, and transit facilities to accommodate the proposed development of new recreational areas at Hatcher Pass that otherwise has excellent road access by both the Glenn and Parks Highways and is paved to the Alpine base area as well as to nearly the top of the pass.

In the summer months, Hatcher Pass is a popular tourist destination with activity focused around the Independence Mine State Historical Park, which features the area's brief but intense hard rock mining history. The area is also a very popular family hiking area with many trail destinations. Hatcher Pass has been used as a winter sports venue since the 1940s and sees use by cross-country and downhill skiers, snowboarders and snowmobile riders. Their activities are currently supported by small-scale businesses, which provide limited food and lodging and some trail grooming services.

The Hatcher Pass Ski Area Project, as currently proposed by the MSB, is not the large-scale four-season resort as is currently described in the 1989 State of Alaska Department of Natural Resources Hatcher Pass Management Plan. Rather, it will be a day-use area that will provide an opportunity for skiing and other recreational opportunities for local and regional residents that is financially feasible and environmentally sensitive. The MSB's goal is a moderate sized development that would include Nordic and alpine skiing, snowboarding, biathlon (winter sport that combines cross-country skiing with rifle shooting), mountain biking, hiking, sledding, and equestrian access.

Preliminary estimates indicate that approximately 1,850 skiers will visit the Nordic area day during the 150 day ski season. In the Alpine area, the estimated visitation will be between 130,000-240,000 skiers during the 100 day ski season. These estimates are a result of applying economic trends and growth rates to the estimates in the Financial Feasibility Study conducted by Economic Research Associates in 1995. As of 2006, the average daily traffic (ADT) at the intersection of Palmer Fishhook Road and Edgerton Parks Road was 502.

Alternatives: The proposed project includes improvements at two areas in Hatcher Pass—the North Side Alpine Ski Area and the South Side Recreational Area. Proposed improvements include the following:

North Side (Alpine Ski Area)

• Reconstruction of an existing gravel access road, approximately 1,400-ft in length

• Reconstruction of an existing gravel parking area

• Construction of a covered 20-30 passenger transit shelter at the south end of the parking lot

South Side Recreational Area

• Construction of a new access road off of Edgerton Park Road, approximately 5,500-ft in length

• Nordic and other non-motorized multiple-use trails

• Parking areas and trailheads

• Construction of a covered 20-30 passenger transit shelter at the south end of the parking lot

The Hatcher Pass Ski Area project involves MSB's plans to construct two Alpine ski lifts, Alpine trails, and a small day lodge providing food and ski concessions as part of the overall Alpine ski area development, and a small chalet and conference facility as part of the overall South Side Recreational Area development. These components are not part of the FTA-funded project, but will be considered in the EIS as part of the secondary and cumulative impact analysis.

Three preliminary road alignments have been developed for the South Side Recreational Area access road. MSB plans to utilize the EIS scoping process to continue refining and exploring the various development options for this project. These refinements will be developed in consultation with state and local agencies and the surrounding community, and will be explored in the context of the EIS.

The EIS Process and the Role of Participating Agencies and the Public: The purpose of the EIS process is to explore in a public setting potentially significant effects of implementing the proposed action and alternatives on the physical, human, and natural environment. Areas of investigation include but are not limited to: land use, development potential, land acquisition and displacements, historic resources, visual and aesthetic qualities, air quality, noise and vibration, energy use, safety and security, and ecosystems, including threatened and endangered species. Measures to avoid, minimize, or mitigate any significant adverse impacts will be identified. Regulations implementing NEPA, as well as provisions of the recently enacted Safe, Accountable, Flexible, Efficient Transportation Equity Act: A Legacy for Users (SAFETEA-LU), call for public involvement in the EIS process. Section 6002 of SAFETEA-LU requires that FTA and the MSB do the following: (1) Extend an invitation to other Federal and non-Federal agencies and Indian tribes that may have an interest in the proposed project to become “participating agencies,” (2) provide an opportunity for involvement by participating agencies and the public in helping to define the purpose and need for a proposed project as well as the range of alternatives for consideration in the impact statement, and (3) establish a plan for coordinating public and agency participation in and comment on the environmental review process. An invitation to become a participating agency, with the scoping information packet appended, will be extended to other Federal and non-Federal agencies and Indian tribes that may have an interest in the proposed project. It is possible that we may not be able to identify all Federal and non-Federal agencies and Indian tribes that may have such interest. Any Federal or non-Federal agency or Indian tribe interested in the proposed project that does not receive an invitation to become a participating agency should notify at the earliest opportunity the contacts identified above under ADDRESSES.

A comprehensive public involvement program has been developed and a public and agency involvement Coordination Plan will be created. The program includes a project Web site (http://www.hatcherpass.com); outreach to local and Borough officials and community and civic groups; a public scoping process to define the issues of concern among all parties interested in the project; establishment of a community advisory committee and organizing periodic meetings with that committee; a public hearing on release of the draft environmental impact statement (DEIS); establishment of a walk-in project office near the project area; and development and distribution of project newsletters.

The purposes of and need for the proposed project have been preliminarily identified in this notice. We invite the public and participating agencies to consider the preliminary statement of purposes of and need for the proposed project, and to provide input on the purpose and need statement and potential alternatives that should be considered. Suggestions for modifications to the statement of purposes of and need for the proposed project and any other alternatives that meet the purpose of and need for the proposed project are welcomed and will be given serious consideration. Comments on potentially significant environmental impacts that may be associated with the proposed project and alternatives are also welcomed. There will be additional opportunities to participate in the scoping process at the public meeting announced in this notice.

In accordance with 23 CFR 771.105(a) and 771.133, FTA will comply with all Federal environmental laws, regulations, and executive orders applicable to the proposed project during the environmental review process to the maximum extent practicable. These requirements include, but are not limited to, the regulations of the Council on Environmental Quality and FTA implementing NEPA (40 CFR parts 1500-1508, and 23 CFR Part 771), the project-level air quality conformity regulation of the U.S. Environmental Protection Agency (EPA) (40 CFR part 93), the Section 404(b)(1) guidelines of EPA (40 CFR part 230), the regulation implementing Section 106 of the National Historic Preservation Act (36 CFR part 800), the regulation implementing section 7 of the Endangered Species Act (50 CFR part 402), Section 4(f) of the Department of Transportation Act (23 CFR 771.135) and Executive Orders 12898 on environmental justice, 11988 on floodplain management, and 11990 on wetlands.

Issued on: November 6, 2008.
Linda Gehrke,
Deputy Regional Administrator, FTA Region 10.

[FR Doc. E8-27147 Filed 11-14-08; 8:45 am]

BILLING CODE 4910-57-P